DEPARTMENT OF LABOR

Employment and Training Administration

Solicitation for Grant Applications (SGA); Community-Based Job Training Grants

AGENCY: Employment and Training Administration (ETA), Labor.

ACTION: Notice; additional information.

SUMMARY: The Employment and Training Administration published a document in the Federal Register on May 3, 2005, 70 FR 22905, concerning the availability of grant funds for eligible community colleges under the Community-Based Job Training Grants (CBJTG): SGA/DFA PY-04-10. This notice is to alert prospective applicants that a Frequently Asked Questions (FAQ) page has been posted on the Department of Labor's Web site at: http://www.doleta.gov/business/FAQ_Community-BasedJobTrainingGrants.cfm. This page is to help answer frequently asked questions that the Grants office has received throughout the CBJTG solicitation. Please check this site periodically for any updates to the FAQ's.

Signed at Washington, DC, this 13th day of June, 2005.
Laura Cesario,
Grant Officer.

[FR Doc. E5-3136 Filed 6-16-05; 8:45 am]

BILLING CODE 4510-30-P